POSTAL SERVICE

39 CFR Part 20

Revised Standards for First-Class Mail International™ Service

AGENCY: Postal Service™.

ACTION: Final rule.

SUMMARY: The Postal Service will adopt new mailing standards and prices for First-Class Mail International service on May 12, 2008, which reflects current First-Class Mail domestic shape-based standards. Our revisions recognize that each mailpiece shape—letter, flat, and parcel—has substantially different processing costs that needs to be covered. Currently, the First-Class Mail International pricing structure does not have a distinction between letter-size, flat-size, and package (small packet) pricing.

DATES: Effective Date: 12:01 a.m. on May 12, 2008.

FOR FURTHER INFORMATION CONTACT: Christy Bonning, 202-268-2108.

SUPPLEMENTARY INFORMATION: The Postal Service's classification changes and new pricing structure for First-Class Mail International items will enhance efficiency and assist that items mailed at First-Class Mail International prices cover their costs.

The Postal Service adopts the following changes to Mailing Standards of the United States Postal Service, International Mail Manual (IMM®), which is incorporated by reference in the Code of Federal Regulations. See 39 CFR Part 20.

List of Subjects in 39 CFR Part 20

Foreign relations, International postal services.

Accordingly, 39 CFR part 20 is amended as follows:

PART 20—[AMENDED]

1. The authority citation for 39 CFR part 20 continues to read as follows:

Authority: 5 U.S.C. 552(a); 39 U.S.C. 401, 404, 407, 408, 3622, 3632, and 3633.

2. Revise the following sections of Mailing Standards of the United States Postal Service, International Mail Manual (IMM), as follows:

1 International Mail Services

* * * * *

140 International Mail Categories

* * * * *

[Delete 142 in its entirety (moving relevant information to 241, as incorporated later in this text), and renumber 143 as 142.]

* * * * *

2 Conditions for Mailing

* * * * *

240 First-Class Mail International

[Revise 241 (including relevant information previously incorporated in 142 to read as follows:]

241 Description

241.1 General

The First-Class Mail International classification encompasses all categories of international mail that prior to May 14, 2007, were categorized as airmail letter-post and economy letter-post, postcards and postal cards, printed matter, and small packets that were formerly categorized as LC (letters and cards) and AO (other articles).

241.2 Mailable Matter

Any article that is otherwise acceptable and not prohibited by the Postal Service or country of destination, subject to applicable weight and size limits, may be mailed at the First-Class Mail International price.

241.3 Color

Light-colored envelopes and cards that do not interfere with the reading of the address and postmark must be used. Do not use brilliant colors.

241.4 Quality

Envelopes, cards, and packaging materials must be constructed strong enough to withstand normal handling. Highly glazed paper or paper with a design that affects readability or processing is not acceptable.

241.5 Window Envelopes

Window envelopes must be used under the following conditions:

a. The address window must be parallel with the length of the envelope.

b. The address window must be in the lower portion of the address side.

c. Nothing but the name, address, and any key number used by the mailer may appear through the address window.

d. The return address should appear in the upper-left corner. If there is no return address and the delivery address does not show through the window, the piece will be handled as undeliverable mail.

e. The address disclosed through the window must be on white paper or paper of a very light color.

f. When used for registered mail, window envelopes must conform to the conditions in DMM 503.

g. Open panel envelopes, i.e., those in which the panel is not covered with a transparent material, are not acceptable in international mail.

241.6 Bordered Envelopes and Cards

Envelopes and cards that have green-colored bars or red- and blue-striped borders may be used for the sending of First-Class Mail International items.

242 Postage

[Revise 242.1 as follows:]

242.1 Prices

See the Individual Country Listings for First-Class Mail International postage prices that are applicable to specific destination countries and territorial possessions. The country-specific price group designations that apply to First-Class Mail International are as follows:

Afghanistan | 6 | Dominica | 9 | Lebanon | 8 | San Marino | 5
Albania | 4 | Dominican Republic | 9 | Lesotho | 7 | Sao Tome and Principe | 7
Algeria | 8 | Ecuador | 9 | Liberia | 7 | Saudi Arabia | 8
Andorra | 5 | Egypt | 8 | Libya | 8 | Senegal | 7
Angola | 7 | El Salvador | 9 | Liechtenstein | 5 | Serbia-Montenegro | 5
Anguilla | 9 | Equatorial Guinea | 7 | Lithuania | 4 | Seychelles | 7
Antigua and Barbuda | 9 | Eritrea | 7 | Luxembourg | 5 | Sierra Leone | 7
Argentina | 9 | Estonia | 4 | Macao | 6 | Singapore | 6
Armenia | 4 | Ethiopia | 8 | Macedonia, Republic of | 4 | Slovak Republic | 5
Aruba | 9 | Falkland Islands | 9 | Madagascar | 7 | Slovenia | 5
Ascension | 7 | Faroe Islands | 5 | Malawi | 7 | Solomon Islands | 6
Australia | 3 | Fiji | 6 | Malaysia | 6 | Somalia | ¹ na
Austria | 5 | Finland | 5 | Maldives | 6 | South Africa | 7
Azerbaijan | 4 | France | 5 | Mali | 7 | Spain | 5
Bahamas | 9 | French Guiana | 9 | Malta | 5 | Sri Lanka | 6
Bahrain | 8 | French Polynesia | 6 | Martinique | 9 | Sudan | 7
Bangladesh | 6 | Gabon | 7 | Mauritania | 7 | Suriname | 9
Barbados | 9 | Gambia | 7 | Mauritius | 7 | Swaziland | 7
Belarus | 4 | Georgia, Republic of | 4 | Mexico | 2 | Sweden | 5
Belgium | 5 | Germany | 5 | Moldova | 4 | Switzerland | 5
Belize | 9 | Ghana | 7 | Mongolia | 6 | Syrian Arab Republic | 8
Benin | 7 | Gibraltar | 5 | Montserrat | 9 | Taiwan | 6
Bermuda | 9 | Great Britain and Northern Ireland | 5 | Morocco | 8 | Tajikistan | 6
Bhutan | 6 | Greece | 5 | Mozambique | 7 | Tanzania | 7
Bolivia | 9 | Greenland | 5 | Namibia | 7 | Thailand | 6
Bosnia-Herzegovina | 4 | Grenada | 9 | Nauru | 6 | Togo | 7
Botswana | 7 | Guadeloupe | 9 | Nepal | 6 | Tonga | 6
Brazil | 9 | Guatemala | 9 | Netherlands | 5 | Trinidad and Tobago | 9
British Virgin Islands | 9 | Guinea | 7 | Netherlands Antilles | 9 | Tristan da Cunha | 7
Brunei Darussalam | 6 | Guinea-Bissau | 7 | New Caledonia | 6 | Tunisia | 8
Bulgaria | 4 | Guyana | 9 | New Zealand | 6 | Turkey | 4
Burkina Faso | 7 | Haiti | 9 | Nicaragua | 9 | Turkmenistan | 6
Burma | 6 | Honduras | 9 | Niger | 7 | Turks and Caicos Islands | 9
Burundi | 7 | Hong Kong | 3 | Nigeria | 7 | Tuvalu | 6
Cambodia | 6 | Hungary | 4 | Norway | 5 | Uganda | 7
Cameroon | 7 | Iceland | 5 | Oman | 8 | Ukraine | 4
Canada | 1 | India | 6 | Pakistan | 6 | United Arab Emirates | 8
Cape Verde | 7 | Indonesia | 6 | Panama | 9 | Uruguay | 9
Cayman Islands | 9 | Iran | 8 | Papua New Guinea | 6 | Uzbekistan | 6
Central African Republic | 7 | Iraq | 8 | Paraguay | 9 | Vanuatu | 6
Chad | 7 | Ireland | 5 | Peru | 9 | Vatican City | 5
Chile | 9 | Israel | 8 | Philippines | 6 | Venezuela | 9
China | 3 | Italy | 5 | Pitcairn Island | 6 | Vietnam | 6
Colombia | 9 | Jamaica | 9 | Poland | 4 | Wallis and Futuna Islands | 6
Comoros | 7 | Japan | 3 | Portugal | 5 | Western Samoa | 6
Congo (Brazzaville), Republic of the | 7 | Jordan | 8 | Qatar | 8 | Yemen | 8
Congo, Democratic Republic of the | 7 | Kazakhstan | 6 | Reunion | 9 | Zambia | 7
Costa Rica | 9 | Kenya | 7 | Romania | 4 | Zimbabwe | 7
Cote d Ivoire (Ivory Coast) | 7 | Kiribati | 6 | Russia | 4
Croatia | 4 | Korea, Democratic People's Republic of (North Korea) | 6 | Rwanda | 7
Cuba | 9 | Korea, Republic of (South Korea) | 3 | Saint Christopher and Nevis | 9
Cyprus | 4 | Kuwait | 8 | Saint Helena | 7
Czech Republic | 4 | Kyrgyzstan | 6 | Saint Lucia | 9
Denmark | 5 | Laos | 6 | Saint Pierre and Miquelon | 4
Djibouti | 7 | Latvia | 4 | Saint Vincent and the Grenadines | 9
¹ na = First-Class Mail International is not available.

[Renumber current 242.2 as 242.3. Add new 242.2 as follows:]

242.2 Price Computation

First-Class Mail International prices are charged per ounce or fraction thereof; any fraction of an ounce is rounded up to the next whole ounce. For example, if a piece weighs 1.2 ounces, the weight (postage) increment is 2 ounces. The minimum postage per addressed piece, except postcards, is that for a piece weighing 1 ounce.

242.3 Payment of Postage

* * * * *

243 Physical Characteristics

[Delete current 243.1 in its entirety. Revise and renumber 250 through 254.6 as 243.1 through 243.17 as follows:]

243.1 Postcards

243.11 General

a. Postcards consist of single cards sent without a wrapper or envelope. Folded (double) cards must be mailed in envelopes at the First-Class Mail International letter price.

b. Postcards must be made of cardboard or paper that meets the material and color specifications in 241.3 and 241.4.

243.12 Addressing

See 122.

243.13 Postage Prices and Fees

The postage prices for postcards are as follows:

a. Canada and Mexico—$0.72

b. All other countries—$0.94

243.14 Description

243.141 Reply—Paid Cards

Reply-paid cards are not accepted in international mail, except as provided in 132.2.

243.142 Privately Manufactured Postcards

Privately manufactured postcards, except picture postcards, must bear the heading Postcard.

243.143 Weight Limit

Postcards must meet the requirements in 241.4.

243.144 Dimensions

Each postcard claimed at a card price must be:

a. Rectangular.

b. Not less than 3½ inches high or 5½ inches long or 0.007 inch thick.

c. Not more than 4¼ inches high or 6 inches long or 0.016 inch thick.

Note: Unenclosed cards exceeding the size limits for postcards are mailable at the First-Class Mail International letter price if they do not exceed 4¾ inches high or 9¼ inches long.

243.15 Marking

The sender should mark postcards Par Avion or affix Label 19-A, Par Avion Airmail, or Label 19-B, Par Avion Airmail, on the left side on the front.

243.151 Right Half of Postcard

The right half of the address side of a card must be reserved for the address of the addressee and postal notations or labels.

243.152 Left Half and Reverse Side

The sender may use the left half of the address side of the card and the reverse side for a message or permissible attachments. The sender must use the upper-left half of the address side for his or her return address. (Unless they bear the name and address of the sender, undeliverable cards are disposed of in the country of destination.)

243.16 Permitted Attachments

The following may be glued on the left half of the address side of a card, or on the side opposite the address side, if they are made of paper or other thin material and adhere completely to the card:

a. Clippings of any kind.

b. Illustrations or photographs.

c. Labels other than address labels.

d. Stamps of any kind, except stamps likely to be confused with postage stamps, must not be placed on the address side of the card.

e. Address labels or address tabs that may be glued to the address side of the card.

243.17 Nonpermitted Attachments

A card may not bear an attachment that is:

a. Other than paper.

b. Not totally adhered to the card surface.

c. An encumbrance to postal processing.

[Delete sections not used in 250 Postcards: 251.3 in its entirety, Titles of 253 and 254.] [Revise title of 243.2 as follows:]

243.2 Letters

[Renumber 243.21 as 243.22 and add new 243.21 as follows:]

243.21 Weight Limit

The weight limit is 3.5 ounces. (First-Class Mail International letter-size pieces over 3.5 ounces are charged First-Class Mail International flat-size prices.)

[Revise renumbered 243.22 as follows:]

243.22 Dimensions

Letter-size mail must be rectangular and meet the following dimensions:

a. Not less than 5½ inches long or 3½ inches high, or 0.007-inch thick.

b. Not more than 11½ inches long or more than 6⅛ inches high or more than ¼-inch thick.

Note: For the purpose of determining mailability or machinability of a letter-sized piece (see 243.23): the length is the dimension parallel to the delivery address as read, and the height is the dimension perpendicular to the length.

[Delete old 243.22 and 243.23 (renumbered 243.23 and 243.24). Revise and renumber old 243.24 (renumbered 243.25) as 243.23 as follows:]

243.23 Nonmachinable Surcharge

A $0.20 per-piece surcharge applies to a First-Class Mail International letter, regardless of weight, with one or more of the following nonmachinable characteristics:

a. Has an aspect ratio (length divided by height) of less than 1.3 or more than 2.5.

b. Is polybagged, polywrapped, or enclosed in any plastic material.

c. Have clasps, strings, buttons, or similar closure devices.

d. Contains items such as pens, pencils, or loose keys or coins that cause the thickness of the mailpiece to be uneven.

e. Is too rigid (does not bend easily when subjected to a transport belt tension of 40 pounds around an 11-inch diameter turn).

f. Is more than 4¼ inches high or 6 inches long and less than 0.009 inch thick.

g. Has a delivery address parallel to the shorter dimension of the mailpiece.

h. Is a self-mailer with a final folded edge perpendicular to the address, if the piece is not folded and secured according to DMM 201.3.13.1.

i. Is a booklet-type piece with the bound edge (spine) along the shorter dimension of the piece or at the top, unless prepared according to DMM 201.3.13.2.

[Add new 243.3 through 243.432 as follows:]

243.3 Large Envelopes (Flats)

243.31 Weight Limit

The weight limit is 4 pounds.

243.32 Dimensions and Characteristics

Large envelopes (flats) must meet the following dimensions and characteristics:

a. More than 11½ inches long, or more than 6⅛ inches high or more than ¼-inch thick.

b. Not more than 15 inches long, or more than 12 inches high, or more than ¾-inch thick.

c. Flexible (see 243.33).

d. Rectangular.

e. Uniformly thick as stated in 243.34.

Note: The length of a large envelope (flat) is the longest dimension. The height is the dimension perpendicular to the length. A First-Class Mail International large envelope (flat) that does not meet the standards in 243.3 is not eligible for large envelope (flat) size price and are charged the applicable package (small packet) price.

243.33 Minimum Flexibility

Large envelopes (flats) must be flexible. Boxes, with or without hinges, gaps, or breaks that allow the piece to bend, are not considered large envelopes (flats). Tight envelopes or wrappers that are filled with one or more boxes are not considered large envelopes (flats). At the customer's option, a customer may perform the following test on their own mailpieces. When a postal employee observes a customer demonstrating that a flat-size piece is flexible according to these standards, the employee does not need to perform the test. Test flats as follows:

a. All large envelopes (flats) (see Exhibit 243.33a):

1. Place the piece with the length parallel to the edge of a flat surface and extend the piece halfway off the surface.

2. Press down on the piece at a point 1 inch from the outer edge, in the center of the piece's length, exerting steady pressure.

3. The piece is not flexible if it cannot bend at least 1 inch vertically without being damaged.

4. The piece is flexible if it can bend at least 1 inch vertically without being damaged and it does not contain a rigid insert. No further testing is necessary.

5. Test the piece according to 243.33b or 243.33c below if it can bend at least 1 inch vertically without being damaged and it contains a rigid insert.

Exhibit 243.33a Flexibility Test—All Large Envelopes (Flats)

(See examples on Postal Explorer at pe.usps.com—click on Federal Register Notices in the left frame.)

b. Large envelopes 10 inches or longer that pass the test in 243.33a and contain a rigid insert (see Exhibit 243.33b):

1. Place the piece with the length perpendicular to the edge of a flat surface and extend the piece 5 inches off the surface.

2. Press down on the piece at a point 1 inch from the outer edge, in the center of the piece's width, exerting steady pressure.

3. Turn the piece around and repeat steps 1 and 2. The piece is flexible if both ends can bend at least 2 inches vertically without being damaged.

Exhibit 243.33b Flexibility Test—Large Envelopes (Flats) 10 Inches or Longer

(See examples on Postal Explorer at pe.usps.com—click on Federal Register Notices in the left frame.)

c. Large envelopes less than 10 inches long that pass the test in 243.33a and contain a rigid insert (see Exhibit 243.33c):

1. Place the piece with the length perpendicular to the edge of a flat surface and extend the piece one-half of its length off the surface.

2. Press down on the piece at a point 1 inch from the outer edge, in the center of the piece's width, exerting steady pressure.

3. Turn the piece around and repeat steps 1 and 2. The piece is flexible if both ends can bend at least 1 inch vertically without being damaged.

Exhibit 243.33c Flexibility Test—Large Envelopes (Flats) Less Than 10 Inches Long

(See examples on Postal Explorer at pe.usps.com—click on Federal Register Notices in the left frame.)

243.34 Uniform Thickness

Large envelopes (Flats) must be uniformly thick so that any bumps, protrusions, or other irregularities do not cause more than ¼-inch variance in thickness. When determining variance in thickness, exclude the outside edges of a mailpiece (1 inch from each edge) when the contents do not extend into those edges. Also, exclude the selvage of any polywrap covering from this determination. Mailers must secure nonpaper contents to prevent shifting of more than 2 inches within the mailpiece if shifting would cause the piece to be nonuniform in thickness or would result in the contents bursting out of the mailpiece.

243.4 Packages (Small Packets)

243.41 Weight Limit

The weight limit is 4 pounds.

243.42 Dimensions

Packages (small packets) must be within the following dimensions:

a. Maximum length: 24 inches. Length is the longest dimension.

b. Maximum length, height, and depth (thickness) combined: 36 inches.

c. Minimum size: Large enough to accommodate the postage, address, customs form, and other required elements on the address side.

243.43 Rolls

243.431 Weight Limit

The weight limit is 4 pounds.

243.432 Dimensions

Rolls must be within the following dimensions:

a. Minimum length: 4 inches.

b. Minimum length plus twice the diameter combined: 6¾ inches.

c. Maximum length: 36 inches.

d. Maximum length plus twice the diameter combined: 42 inches.

244 Mail Preparation

* * * * *

244.2 Marking

[Revise item “a” as follows:]

a. First-Class Mail International packages (small packets) and rolls, which because of their size, shape, or configuration might be mistaken for another category of international mail, should be marked “LETTER-POST” on the address side of the mailpiece.

* * * * *

[Delete item “d” in its entirety]

* * * * *

244.4 Packaging

[Renumber 244.4a-d as 244.4c-f. Add new 244.4a and 244.4b as follows:]

a. Mailers must package mailpieces to withstand normal transit and handling without content or package breakage, injury to USPS employees, or damage to other mail or USPS equipment.

b. Mailers must package their contents to prevent their deterioration.

* * * * *

[Revise renumbered 244.4f as follows:]

f. First-Class Mail International items, in card form, are permitted, so long as their overall dimensions do not exceed 4¾ inches or 9¼ inches. See 243.144.

* * * * *

250 Reserved

* * * * *

[Add new section after 943.2 and before World Map as follows:]

Country Rate Groups and Weight Limits
Country | ¹ GXG rate group ⁵ | ¹ GXG max wt. lbs. | ² PMI rate group ⁵ | ² PMI max wt. lbs. | ² PMI flat-rate box max wt. lbs. | ³ EMI rate group ⁵ | ³ EMI max wt. lbs. | ⁴ FCMI rate group ⁵ | ⁴ FCMI letters max wt. oz. | ⁴ FCMI letters max wt. lbs. | ⁴ FCMI letters max wt. lbs.
Afghanistan | 6 | 70 | 6 | 66 | 20 | 0 | 0 | 6 | 3.5 | 4 | 4
Albania | 4 | 70 | 4 | 44 | 20 | 4 | 66 | 4 | 3.5 | 4 | 4
Algeria | 0 | 0 | 8 | 44 | 20 | 8 | 44 | 8 | 3.5 | 4 | 4
Andorra | 5 | 70 | 5 | 66 | 20 | 5 | 66 | 5 | 3.5 | 4 | 4
Angola | 4 | 70 | 7 | 44 | 20 | 7 | 44 | 7 | 3.5 | 4 | 4
Anguilla | 7 | 70 | 9 | 22 | 20 | 9 | 55 | 9 | 3.5 | 4 | 4
Antigua and Barbuda | 7 | 70 | 9 | 22 | 20 | 0 | 0 | 9 | 3.5 | 4 | 4
Argentina | 8 | 70 | 9 | 44 | 20 | 9 | 44 | 9 | 3.5 | 4 | 4
Armenia | 4 | 70 | 4 | 44 | 20 | 4 | 44 | 4 | 3.5 | 4 | 4
Aruba | 7 | 70 | 9 | 44 | 20 | 9 | 44 | 9 | 3.5 | 4 | 4
Ascension | 0 | 0 | 0 | 0 | 0 | 0 | 0 | 7 | 3.5 | 4 | 4
Australia | 6 | 70 | 3 | 66 | 20 | 3 | 44 | 3 | 3.5 | 4 | 4
Austria | 5 | 70 | 5 | 66 | 20 | 5 | 70 | 5 | 3.5 | 4 | 4
Azerbaijan | 4 | 70 | 4 | 70 | 20 | 4 | 70 | 4 | 3.5 | 4 | 4
Bahamas | 7 | 70 | 9 | 22 | 20 | 9 | 22 | 9 | 3.5 | 4 | 4
Bahrain | 6 | 70 | 8 | 44 | 20 | 8 | 44 | 8 | 3.5 | 4 | 4
Bangladesh | 6 | 70 | 6 | 44 | 20 | 6 | 44 | 6 | 3.5 | 4 | 4
Barbados | 7 | 70 | 9 | 44 | 20 | 9 | 66 | 9 | 3.5 | 4 | 4
Belarus | 4 | 70 | 4 | 66 | 20 | 4 | 44 | 4 | 3.5 | 4 | 4
Belgium | 3 | 70 | 5 | 66 | 20 | 5 | 66 | 5 | 3.5 | 4 | 4
Belize | 8 | 70 | 9 | 44 | 20 | 9 | 66 | 9 | 3.5 | 4 | 4
Benin | 4 | 70 | 7 | 66 | 20 | 7 | 66 | 7 | 3.5 | 4 | 4
Bermuda | 7 | 70 | 9 | 44 | 20 | 9 | 44 | 9 | 3.5 | 4 | 4
Bhutan | 6 | 70 | 6 | 66 | 20 | 6 | 66 | 6 | 3.5 | 4 | 4
Bolivia | 8 | 70 | 9 | 70 | 20 | 9 | 66 | 9 | 3.5 | 4 | 4
Bosnia-Herzegovina | 4 | 70 | 4 | 44 | 20 | 4 | 66 | 4 | 3.5 | 4 | 4
Botswana | 4 | 70 | 7 | 66 | 20 | 7 | 66 | 7 | 3.5 | 4 | 4
Brazil | 8 | 70 | 9 | 66 | 20 | 9 | 66 | 9 | 3.5 | 4 | 4
British Virgin Islands | 7 | 70 | 9 | 44 | 20 | 0 | 0 | 9 | 3.5 | 4 | 4
Brunei Darussalam | 4 | 70 | 6 | 44 | 20 | 6 | 66 | 6 | 3.5 | 4 | 4
Bulgaria | 4 | 70 | 4 | 70 | 20 | 4 | 66 | 4 | 3.5 | 4 | 4
Burkina Faso | 4 | 70 | 7 | 66 | 20 | 7 | 70 | 7 | 3.5 | 4 | 4
Burma | 0 | 0 | 6 | 22 | 20 | 0 | 0 | 6 | 3.5 | 4 | 4
Burundi | 4 | 70 | 7 | 66 | 20 | 7 | 66 | 7 | 3.5 | 4 | 4
Cambodia | 8 | 70 | 6 | 66 | 20 | 6 | 66 | 6 | 3.5 | 4 | 4
Cameroon | 4 | 70 | 7 | 66 | 20 | 7 | 44 | 7 | 3.5 | 4 | 4
Canada | 1 | 70 | 1 | 66 | 20 | 1 | 66 | 1 | 3.5 | 4 | 4
Cape Verde | 4 | 70 | 7 | 44 | 20 | 7 | 66 | 7 | 3.5 | 4 | 4
Cayman Islands | 7 | 70 | 9 | 44 | 20 | 9 | 44 | 9 | 3.5 | 4 | 4
Central African Republic | 0 | 0 | 7 | 66 | 20 | 7 | 66 | 7 | 3.5 | 4 | 4
Chad | 4 | 70 | 7 | 44 | 20 | 7 | 66 | 7 | 3.5 | 4 | 4
Chile | 8 | 70 | 9 | 44 | 20 | 9 | 66 | 9 | 3.5 | 4 | 4
China | 6 | 70 | 3 | 66 | 20 | 3 | 66 | 3 | 3.5 | 4 | 4
Colombia | 8 | 70 | 9 | 66 | 20 | 9 | 44 | 9 | 3.5 | 4 | 4
Comoros | 0 | 0 | 7 | 44 | 20 | 0 | 0 | 7 | 3.5 | 4 | 4
Congo (Brazzaville) Republic of the | 4 | 70 | 7 | 44 | 20 | 7 | 66 | 7 | 3.5 | 4 | 4
Congo, Democratic Republic of the | 4 | 70 | 7 | 66 | 20 | 7 | 66 | 7 | 3.5 | 4 | 4
Costa Rica | 8 | 70 | 9 | 66 | 20 | 9 | 66 | 9 | 3.5 | 4 | 4
Cote d Ivoire (Ivory Coast) | 4 | 70 | 7 | 66 | 20 | 7 | 66 | 7 | 3.5 | 4 | 4
Croatia | 4 | 70 | 4 | 66 | 20 | 4 | 66 | 4 | 3.5 | 4 | 4
Cuba | 0 | 0 | 0 | 0 | 0 | 0 | 0 | 9 | 3.5 | 4 | 4
Cyprus | 6 | 70 | 4 | 70 | 20 | 4 | 70 | 4 | 3.5 | 4 | 4
Czech Republic | 4 | 70 | 4 | 66 | 20 | 4 | 66 | 4 | 3.5 | 4 | 4
Denmark | 5 | 70 | 5 | 66 | 20 | 5 | 66 | 5 | 3.5 | 4 | 4
Djibouti | 4 | 70 | 7 | 44 | 20 | 7 | 44 | 7 | 3.5 | 4 | 4
Dominica | 7 | 70 | 9 | 44 | 20 | 9 | 44 | 9 | 3.5 | 4 | 4
Dominican Republic | 7 | 70 | 9 | 44 | 20 | 9 | 66 | 9 | 3.5 | 4 | 4
Ecuador | 8 | 70 | 9 | 66 | 20 | 9 | 66 | 9 | 3.5 | 4 | 4
Egypt | 6 | 70 | 8 | 66 | 20 | 8 | 44 | 8 | 3.5 | 4 | 4
El Salvador | 8 | 70 | 9 | 44 | 20 | 9 | 66 | 9 | 3.5 | 4 | 4
Equatorial Guinea | 4 | 70 | 7 | 22 | 20 | 7 | 44 | 7 | 3.5 | 4 | 4
Eritrea | 4 | 70 | 7 | 44 | 20 | 7 | 66 | 7 | 3.5 | 4 | 4
Estonia | 4 | 70 | 4 | 70 | 20 | 4 | 66 | 4 | 3.5 | 4 | 4
Ethiopia | 4 | 70 | 8 | 66 | 20 | 8 | 66 | 8 | 3.5 | 4 | 4
Falkland Islands | 0 | 0 | 0 | 0 | 0 | 0 | 0 | 9 | 3.5 | 4 | 4
Faroe Islands | 5 | 70 | 5 | 70 | 20 | 5 | 44 | 5 | 3.5 | 4 | 4
Fiji | 8 | 70 | 6 | 44 | 20 | 6 | 66 | 6 | 3.5 | 4 | 4
Finland | 5 | 70 | 5 | 70 | 20 | 5 | 66 | 5 | 3.5 | 4 | 4
France | 3 | 70 | 5 | 66 | 20 | 5 | 66 | 5 | 3.5 | 4 | 4
French Guiana | 8 | 70 | 9 | 66 | 20 | 9 | 66 | 9 | 3.5 | 4 | 4
French Polynesia | 4 | 70 | 6 | 66 | 20 | 6 | 66 | 6 | 3.5 | 4 | 4
Gabon | 4 | 70 | 7 | 44 | 20 | 7 | 66 | 7 | 3.5 | 4 | 4
Gambia | 4 | 70 | 7 | 66 | 20 | 0 | 0 | 7 | 3.5 | 4 | 4
Georgia, Republic of | 4 | 70 | 4 | 44 | 20 | 4 | 66 | 4 | 3.5 | 4 | 4
Germany | 3 | 70 | 5 | 70 | 20 | 5 | 66 | 5 | 3.5 | 4 | 4
Ghana | 4 | 70 | 7 | 66 | 20 | 7 | 66 | 7 | 3.5 | 4 | 4
Gibraltar | 4 | 70 | 5 | 44 | 20 | 0 | 0 | 5 | 3.5 | 4 | 4
Great Britain and Northern Ireland | 3 | 70 | 5 | 66 | 20 | 5 | 66 | 5 | 3.5 | 4 | 4
Greece | 5 | 70 | 5 | 44 | 20 | 5 | 66 | 5 | 3.5 | 4 | 4
Greenland | 5 | 70 | 5 | 66 | 20 | 0 | 0 | 5 | 3.5 | 4 | 4
Grenada | 7 | 70 | 9 | 44 | 20 | 9 | 66 | 9 | 3.5 | 4 | 4
Guadeloupe | 7 | 70 | 9 | 66 | 20 | 9 | 66 | 9 | 3.5 | 4 | 4
Guatemala | 8 | 70 | 9 | 44 | 20 | 9 | 66 | 9 | 3.5 | 4 | 4
Guinea | 4 | 70 | 7 | 66 | 20 | 7 | 44 | 7 | 3.5 | 4 | 4
Guinea-Bissau | 0 | 0 | 7 | 66 | 20 | 7 | 44 | 7 | 3.5 | 4 | 4
Guyana | 8 | 70 | 9 | 44 | 20 | 9 | 66 | 9 | 3.5 | 4 | 4
Haiti | 7 | 70 | 9 | 55 | 20 | 9 | 66 | 9 | 3.5 | 4 | 4
Honduras | 8 | 70 | 9 | 44 | 20 | 9 | 44 | 9 | 3.5 | 4 | 4
Hong Kong | 3 | 70 | 3 | 66 | 20 | 3 | 66 | 3 | 3.5 | 4 | 4
Hungary | 4 | 70 | 4 | 44 | 20 | 4 | 66 | 4 | 3.5 | 4 | 4
Iceland | 5 | 70 | 5 | 70 | 20 | 5 | 66 | 5 | 3.5 | 4 | 4
India | 6 | 70 | 6 | 44 | 20 | 6 | 70 | 6 | 3.5 | 4 | 4
Indonesia | 6 | 70 | 6 | 44 | 20 | 6 | 66 | 6 | 3.5 | 4 | 4
Iran | 0 | 0 | 8 | 44 | 0 | 0 | 0 | 8 | 3.5 | 4 | 4
Iraq | 6 | 70 | 8 | 44 | 20 | 8 | 44 | 8 | 3.5 | 4 | 4
Ireland | 3 | 70 | 5 | 66 | 20 | 5 | 66 | 5 | 3.5 | 4 | 4
Israel | 6 | 70 | 8 | 44 | 20 | 8 | 44 | 8 | 3.5 | 4 | 4
Italy | 3 | 70 | 5 | 66 | 20 | 5 | 66 | 5 | 3.5 | 4 | 4
Jamaica | 7 | 70 | 9 | 22 | 20 | 9 | 66 | 9 | 3.5 | 4 | 4
Japan | 3 | 70 | 3 | 66 | 20 | 3 | 66 | 3 | 3.5 | 4 | 4
Jordan | 6 | 70 | 8 | 66 | 20 | 8 | 66 | 8 | 3.5 | 4 | 4
Kazakhstan | 4 | 70 | 6 | 44 | 20 | 6 | 66 | 6 | 3.5 | 4 | 4
Kenya | 4 | 70 | 7 | 70 | 20 | 7 | 70 | 7 | 3.5 | 4 | 4
Kiribati | 0 | 0 | 6 | 44 | 20 | 0 | 0 | 6 | 3.5 | 4 | 4
Korea, Democratic Peoples Republic of (North Korea) | 0 | 0 | 0 | 0 | 0 | 0 | 0 | 6 | 3.5 | 4 | 4
Korea, Republic of (South Korea) | 6 | 70 | 3 | 44 | 20 | 3 | 66 | 3 | 3.5 | 4 | 4
Kuwait | 6 | 70 | 8 | 66 | 20 | 8 | 66 | 8 | 3.5 | 4 | 4
Kyrgyzstan | 4 | 70 | 6 | 44 | 20 | 6 | 66 | 6 | 3.5 | 4 | 4
Laos | 8 | 70 | 6 | 44 | 20 | 6 | 66 | 6 | 3.5 | 4 | 4
Latvia | 4 | 70 | 4 | 70 | 20 | 4 | 66 | 4 | 3.5 | 4 | 4
Lebanon | 6 | 70 | 8 | 66 | 20 | 0 | 0 | 8 | 3.5 | 4 | 4
Lesotho | 4 | 70 | 7 | 44 | 20 | 7 | 66 | 7 | 3.5 | 4 | 4
Liberia | 4 | 70 | 7 | 44 | 20 | 7 | 44 | 7 | 3.5 | 4 | 4
Libya | 0 | 0 | 8 | 44 | 20 | 0 | 0 | 8 | 3.5 | 4 | 4
Liechtenstein | 5 | 70 | 5 | 66 | 20 | 5 | 66 | 5 | 3.5 | 4 | 4
Lithuania | 4 | 70 | 4 | 70 | 20 | 4 | 70 | 4 | 3.5 | 4 | 4
Luxembourg | 3 | 70 | 5 | 66 | 20 | 5 | 66 | 5 | 3.5 | 4 | 4
Macao | 3 | 70 | 6 | 70 | 20 | 6 | 70 | 6 | 3.5 | 4 | 4
Macedonia, Republic of | 4 | 70 | 4 | 70 | 20 | 4 | 66 | 4 | 3.5 | 4 | 4
Madagascar | 4 | 70 | 7 | 44 | 20 | 7 | 66 | 7 | 3.5 | 4 | 4
Malawi | 4 | 70 | 7 | 66 | 20 | 7 | 44 | 7 | 3.5 | 4 | 4
Malaysia | 6 | 70 | 6 | 66 | 20 | 6 | 66 | 6 | 3.5 | 4 | 4
Maldives | 6 | 70 | 6 | 66 | 20 | 6 | 66 | 6 | 3.5 | 4 | 4
Mali | 4 | 70 | 7 | 66 | 20 | 7 | 66 | 7 | 3.5 | 4 | 4
Malta | 5 | 70 | 5 | 66 | 20 | 5 | 44 | 5 | 3.5 | 4 | 4
Martinique | 7 | 70 | 9 | 66 | 20 | 9 | 66 | 9 | 3.5 | 4 | 4
Mauritania | 4 | 70 | 7 | 44 | 20 | 7 | 66 | 7 | 3.5 | 4 | 4
Mauritius | 4 | 70 | 7 | 44 | 20 | 7 | 66 | 7 | 3.5 | 4 | 4
Mexico | 2 | 70 | 2 | 44 | 20 | 2 | 44 | 2 | 3.5 | 4 | 4
Moldova | 4 | 70 | 4 | 70 | 20 | 4 | 70 | 4 | 3.5 | 4 | 4
Mongolia | 4 | 70 | 6 | 66 | 20 | 6 | 66 | 6 | 3.5 | 4 | 4
Montserrat | 7 | 70 | 9 | 44 | 20 | 0 | 0 | 9 | 3.5 | 4 | 4
Morocco | 4 | 70 | 8 | 66 | 20 | 8 | 68 | 8 | 3.5 | 4 | 4
Mozambique | 4 | 70 | 7 | 66 | 20 | 7 | 66 | 7 | 3.5 | 4 | 4
Namibia | 4 | 70 | 7 | 44 | 20 | 7 | 22 | 7 | 3.5 | 4 | 4
Nauru | 0 | 0 | 6 | 44 | 20 | 6 | 44 | 6 | 3.5 | 4 | 4
Nepal | 6 | 70 | 6 | 44 | 20 | 6 | 69 | 6 | 3.5 | 4 | 4
Netherlands | 3 | 70 | 5 | 44 | 20 | 5 | 66 | 5 | 3.5 | 4 | 4
Netherlands Antilles | 7 | 70 | 9 | 44 | 20 | 9 | 66 | 9 | 3.5 | 4 | 4
New Caledonia | 8 | 70 | 6 | 66 | 20 | 6 | 66 | 6 | 3.5 | 4 | 4
New Zealand | 6 | 70 | 6 | 66 | 20 | 6 | 66 | 6 | 3.5 | 4 | 4
Nicaragua | 8 | 70 | 9 | 66 | 20 | 9 | 55 | 9 | 3.5 | 4 | 4
Niger | 4 | 70 | 7 | 70 | 20 | 7 | 70 | 7 | 3.5 | 4 | 4
Nigeria | 4 | 70 | 7 | 66 | 20 | 7 | 66 | 7 | 3.5 | 4 | 4
Norway | 5 | 70 | 5 | 66 | 20 | 5 | 66 | 5 | 3.5 | 4 | 4
Oman | 6 | 70 | 8 | 44 | 20 | 8 | 66 | 8 | 3.5 | 4 | 4
Pakistan | 6 | 70 | 6 | 70 | 20 | 6 | 66 | 6 | 3.5 | 4 | 4
Panama | 8 | 70 | 9 | 70 | 20 | 9 | 66 | 9 | 3.5 | 4 | 4
Papua New Guinea | 8 | 70 | 6 | 44 | 20 | 6 | 55 | 6 | 3.5 | 4 | 4
Paraguay | 8 | 70 | 9 | 66 | 20 | 9 | 55 | 9 | 3.5 | 4 | 4
Peru | 8 | 70 | 9 | 70 | 20 | 9 | 70 | 9 | 3.5 | 4 | 4
Philippines | 6 | 70 | 6 | 44 | 20 | 6 | 44 | 6 | 3.5 | 4 | 4
Pitcairn Island | 0 | 0 | 6 | 22 | 20 | 0 | 0 | 6 | 3.5 | 4 | 4
Poland | 4 | 70 | 4 | 44 | 20 | 4 | 44 | 4 | 3.5 | 4 | 4
Portugal | 5 | 70 | 5 | 66 | 20 | 5 | 66 | 5 | 3.5 | 4 | 4
Qatar | 6 | 70 | 8 | 70 | 20 | 8 | 66 | 8 | 3.5 | 4 | 4
Reunion | 4 | 70 | 9 | 66 | 20 | 0 | 0 | 9 | 3.5 | 4 | 4
Romania | 4 | 70 | 4 | 70 | 20 | 4 | 70 | 4 | 3.5 | 4 | 4
Russia | 4 | 70 | 4 | 44 | 20 | 4 | 66 | 4 | 3.5 | 4 | 4
Rwanda | 4 | 70 | 7 | 66 | 20 | 7 | 66 | 7 | 3.5 | 4 | 4
Saint Christopher and Nevis | 7 | 70 | 9 | 44 | 20 | 9 | 66 | 9 | 3.5 | 4 | 4
Saint Helena | 0 | 0 | 7 | 44 | 20 | 0 | 0 | 7 | 3.5 | 4 | 4
Saint Lucia | 7 | 70 | 9 | 44 | 20 | 9 | 44 | 9 | 3.5 | 4 | 4
Saint Pierre and Miquelon | 0 | 0 | 4 | 66 | 20 | 0 | 0 | 4 | 3.5 | 4 | 4
Saint Vincent and the Grenadines | 7 | 70 | 9 | 22 | 20 | 9 | 44 | 9 | 3.5 | 4 | 4
San Marino | 3 | 70 | 5 | 66 | 20 | 5 | 66 | 5 | 3.5 | 4 | 4
Sao Tome and Principe | 0 | 0 | 7 | 44 | 20 | 0 | 0 | 7 | 3.5 | 4 | 4
Saudi Arabia | 4 | 70 | 8 | 66 | 20 | 8 | 66 | 8 | 3.5 | 4 | 4
Senegal | 4 | 70 | 7 | 66 | 20 | 7 | 66 | 7 | 3.5 | 4 | 4
Serbia-Montenegro | 4 | 0 | 5 | 70 | 20 | 5 | 66 | 5 | 3.5 | 4 | 4
Seychelles | 4 | 70 | 7 | 70 | 20 | 7 | 66 | 7 | 3.5 | 4 | 4
Sierra Leone | 0 | 0 | 7 | 66 | 20 | 7 | 66 | 7 | 3.5 | 4 | 4
Singapore | 3 | 70 | 6 | 66 | 20 | 6 | 66 | 6 | 3.5 | 4 | 4
Slovak Republic | 4 | 70 | 5 | 66 | 20 | 5 | 66 | 5 | 3.5 | 4 | 4
Slovenia | 4 | 70 | 5 | 66 | 20 | 5 | 66 | 5 | 3.5 | 4 | 4
Solomon Islands | 0 | 0 | 6 | 44 | 20 | 6 | 66 | 6 | 3.5 | 4 | 4
Somalia | 0 | 0 | 0 | 0 | 0 | 0 | 0 | 0 | 0 | 0 | 0
South Africa | 4 | 70 | 7 | 66 | 20 | 7 | 66 | 7 | 3.5 | 4 | 4
Spain | 5 | 70 | 5 | 44 | 20 | 5 | 66 | 5 | 3.5 | 4 | 4
Sri Lanka | 6 | 70 | 6 | 66 | 20 | 6 | 66 | 6 | 3.5 | 4 | 4
Sudan | 0 | 0 | 7 | 44 | 20 | 7 | 66 | 7 | 3.5 | 4 | 4
Suriname | 8 | 70 | 9 | 44 | 20 | 0 | 0 | 9 | 3.5 | 4 | 4
Swaziland | 4 | 70 | 7 | 44 | 20 | 7 | 66 | 7 | 3.5 | 4 | 4
Sweden | 5 | 70 | 5 | 66 | 20 | 5 | 66 | 5 | 3.5 | 4 | 4
Switzerland | 5 | 70 | 5 | 66 | 20 | 5 | 66 | 5 | 3.5 | 4 | 4
Syrian Arab Republic | 6 | 70 | 8 | 70 | 20 | 8 | 44 | 8 | 3.5 | 4 | 4
Taiwan | 3 | 70 | 6 | 44 | 20 | 6 | 33 | 6 | 3.5 | 4 | 4
Tajikistan | 0 | 0 | 6 | 66 | 20 | 6 | 66 | 6 | 3.5 | 4 | 4
Tanzania | 4 | 70 | 7 | 66 | 20 | 7 | 66 | 7 | 3.5 | 4 | 4
Thailand | 6 | 70 | 6 | 66 | 20 | 6 | 66 | 6 | 3.5 | 4 | 4
Togo | 4 | 70 | 7 | 70 | 20 | 7 | 66 | 7 | 3.5 | 4 | 4
Tonga | 0 | 0 | 6 | 44 | 20 | 0 | 0 | 6 | 3.5 | 4 | 4
Trinidad and Tobago | 7 | 70 | 9 | 44 | 20 | 9 | 66 | 9 | 3.5 | 4 | 4
Tristan da Cunha | 0 | 0 | 7 | 22 | 20 | 0 | 0 | 7 | 3.5 | 4 | 4
Tunisia | 4 | 70 | 8 | 66 | 20 | 8 | 66 | 8 | 3.5 | 4 | 4
Turkey | 6 | 70 | 4 | 66 | 20 | 4 | 66 | 4 | 3.5 | 4 | 4
Turkmenistan | 4 | 70 | 6 | 44 | 20 | 6 | 66 | 6 | 3.5 | 4 | 4
Turks and Caicos Islands | 7 | 70 | 9 | 44 | 20 | 9 | 66 | 9 | 3.5 | 4 | 4
Tuvalu | 0 | 0 | 6 | 55 | 20 | 0 | 0 | 6 | 3.5 | 4 | 4
Uganda | 4 | 70 | 7 | 66 | 20 | 7 | 66 | 7 | 3.5 | 4 | 4
Ukraine | 4 | 70 | 4 | 66 | 20 | 4 | 44 | 4 | 3.5 | 4 | 4
United Arab Emirates | 6 | 70 | 8 | 70 | 20 | 8 | 70 | 8 | 3.5 | 4 | 4
Uruguay | 8 | 70 | 9 | 66 | 20 | 9 | 44 | 9 | 3.5 | 4 | 4
Uzbekistan | 4 | 70 | 6 | 70 | 20 | 6 | 66 | 6 | 3.5 | 4 | 4
Vanuatu | 8 | 70 | 6 | 44 | 20 | 6 | 55 | 6 | 3.5 | 4 | 4
Vatican City | 3 | 70 | 5 | 44 | 20 | 5 | 66 | 5 | 3.5 | 4 | 4
Venezuela | 8 | 70 | 9 | 66 | 20 | 9 | 66 | 9 | 3.5 | 4 | 4
Vietnam | 6 | 70 | 6 | 70 | 20 | 6 | 66 | 6 | 3.5 | 4 | 4
Wallis and Futuna Islands | 4 | 70 | 6 | 66 | 20 | 0 | 0 | 6 | 3.5 | 4 | 4
Western Samoa | 0 | 0 | 6 | 44 | 20 | 6 | 44 | 6 | 3.5 | 4 | 4
Yemen | 6 | 70 | 8 | 66 | 20 | 8 | 66 | 8 | 3.5 | 4 | 4
Zambia | 4 | 70 | 7 | 66 | 20 | 7 | 66 | 7 | 3.5 | 4 | 4
Zimbabwe | 4 | 70 | 7 | 44 | 20 | 7 | 44 | 7 | 3.5 | 4 | 4
¹ GXG = Global Express Guaranteed.
² PMI = Priority Mail International.
³ EMI = Express Mail International.
⁴ FCMI = First-Class Mail International.
⁵ Zero (0) = Service is not available.

Individual Country Listings

[For every country that First-Class Mail International is available, revise the First-Class Mail International section as follows:]

Country Conditions for Mailing

* * * * *

First-Class Mail International

[Replace current price table with new price tables for letters, large envelopes (flats) and packages (small packets) based on country's First-Class Mail International rate group.]

* * * * *

Neva R. Watson,
Attorney, Legislative.

[FR Doc. E8-2920 Filed 2-19-08; 8:45 am]

BILLING CODE 7710-12-P